DEPARTMENT OF COMMERCE

Census Bureau

2005 New York City Housing and Vacancy Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 6, 2004.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to: Howard Savage, Census Bureau, FB3-1433, Washington, DC 20233-8500, or phone (301)763-5665.

SUPPLEMENTARY INFORMATION:

I. Abstract

The Census Bureau plans to conduct the 2005 New York City Housing and Vacancy Survey (NYCHVS) under contract for the City of New York. The primary purpose of the survey is to measure the rental vacancy rate which is the primary factor in determining the continuation of rent control regulations. Other survey information is used by city and state agencies for planning purposes as well as the private sector for business decisions. New York is required by law to have such a survey conducted every three years.

Information to be collected includes: Age, gender, race, Hispanic origin, and relationship of all household members; employment status, education level, and income for persons aged 15 and above. Owner/renter status (tenure) is asked for all units, including vacants. Utility costs, monthly rent, availability of kitchen and bathroom facilities, maintenance deficiencies, neighborhood suitability, and other specific questions about each unit such as number of rooms and bedrooms are also asked. The survey also poses a number of questions relating to handicapped accessibility. For vacant units, a shorter series of similar questions is asked. Finally, all vacant units and approximately five percent of occupied units will be reinterviewed for quality assurance purposes.

The Census Bureau compiles the data in tabular format based on specifications of the survey sponsor, as well as non-identifiable microdata. Both types of data are also made available to the general public through the Census internet site. Note, however, that the sponsor receives the same data that are made generally available so as not to enable the identification of any sample respondent or household.

II. Method of Collection

All information will be collected by personal interview.

III. Data

OMB Number: 0607-0757 (expired 08/31/2002).

Form Number: H-100, H-108 (reinterview).

Type of Review: Regular.

Affected Public: Households.

Estimated Number of Respondents: 18,000 + 2,000 reinterviews.

Estimated Time Per Response: 30 minutes occupied (16,500); 10 minutes vacant (1,500); 10 minutes reinterview (2,000).

Estimated Total Annual Burden Hours: 8,835.

Estimated Total Annual Cost: The only cost to the respondent is that of his/her time.

Respondent's Obligation: Voluntary.

Legal Authority: Title 13 U.S.C.—section 8b and Local Emergency Housing Rent Control Act, Laws of New York (Chapters 8603 and 657).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 3, 2004.
Madeleine Clayton,
Management Analyst, Office of the Chief Information Officer.

[FR Doc. 04-2625 Filed 2-5-04; 8:45 am]

BILLING CODE 3510-07-P